DEPARTMENT OF EDUCATION

Applications for New Awards; Comprehensive Centers Program

AGENCY: Office of Elementary and Secondary Education, Department of Education.

ACTION: Notice.

Overview Information: Com­pre­hen­sive Centers Program; Notice inviting applications for new awards for fiscal year (FY) 2012.

Catalog of Federal Domestic Assistance (CFDA) Number 84.283B.

DATES: Applications Available: June 6, 2012.

Deadline for Notice of Intent to Apply: June 26, 2012.

Dates of Pre-Application Briefings:

Applicants for Regional Centers: June 19, 2012 and June 22, 2012.

Applicants for Content Centers: June 20, 2012 and June 22, 2012.

Deadline for Transmittal of Applications: August 6, 2012.

Deadline for Intergovernmental Review: October 4, 2012.

Full Text of Announcement

I. Funding Opportunity Description

Purpose of Program: The Comprehensive Centers program supports the establishment of no fewer than 20 comprehensive technical assistance centers to provide technical assistance to State educational agencies (SEAs) that builds their capacity to support local educational agencies (LEAs or districts) and schools, especially low-performing districts and schools; improve educational outcomes for all students; close achievement gaps; and improve the quality of instruction.

Regional Advisory Committees: To help inform the Secretary's priorities for the centers funded under this program, the Secretary (in accordance with section 206 of the Education Technical Assistance Act of 2002 (ETAA)) established Regional Advisory Committees (RACs) and charged them with conducting educational needs assessments within the geographic regions served by the 10 Regional Educational Laboratories (RELs) and making recommendations for how those needs might be addressed. The RACs conducted their needs assessments from June 2011 to August 2011 and submitted their reports on regional needs and recommendations for how to address those needs to the Secretary on November 15, 2011. The full RAC reports are available at: http://www2.ed.gov/programs/newccp/resources.html.

Potential applicants for the centers are encouraged to consider the results of these needs assessments and the recommendations contained in the RAC reports when preparing their applications.

Priorities:These priorities are from the notice of final priorities, requirements, and selection criteria for this program, published elsewhere in this issue of the Federal Register.

Absolute Priorities: This competition contains two sets of absolute priorities: Absolute Priority for Regional Centers (priority one) and Absolute Priorities for Content Centers (priorities two through eight). Under 34 CFR 75.105(c)(3) we consider only applications that meet one of these priorities.

Note: If an eligible entity wants to apply for funding for more than one center, it must submit separate applications for each center.

These priorities are:

Priority for Regional Centers

Priority 1: Regional Centers.

Each Regional Center must provide high-quality technical assistance that focuses on key initiatives, aligns with the work of the Content Centers (see Priorities 2-8), and builds the capacity of SEAs to implement, support, scale up, and sustain initiatives statewide and to lead and support their LEAs and schools in improving student outcomes. Key initiatives include: (1) Implementing college- and career-ready standards and aligned, high-quality assessments for all students; (2) identifying, recruiting, developing, and retaining highly effective teachers and leaders; (3) turning around the lowest-performing schools; (4) ensuring the school readiness and success of preschool-age children and their successful transition to kindergarten; (5) building rigorous instructional pathways that support the successful transition of all students from secondary education to college without the need for remediation, and careers; (6) identifying and scaling up innovative approaches to teaching and learning that significantly improve student outcomes; and (7) using data-based decision-making to improve instructional practices, policies, and student outcomes.

Priorities for Content Centers

Priority 2: Center on Standards and Assessments Implementation.

The Center on Standards and Assessments Implementation must provide technical assistance and identify, synthesize, and disseminate research-based practices and emerging promising practices that will lead to the increased capacity of SEAs to support their districts and schools in implementing rigorous college- and career-ready standards and aligned high-quality assessments.

Priority 3: Center on Great Teachers and Leaders.

The Center on Great Teachers and Leaders must provide technical assistance and identify, synthesize, and disseminate research-based practices and emerging promising practices that will lead to the increased capacity of SEAs to support their districts and schools in improving student outcomes by supporting effective instruction and leadership.

Priority 4: Center on School Turnaround.

The Center on School Turnaround must provide technical assistance and identify, synthesize, and disseminate research-based practices and emerging promising practices that will lead to the increased capacity of SEAs to support their districts and schools in turning around their lowest-performing schools.

Priority 5: Center on Enhancing Early Learning Outcomes.

The Center on Enhancing Early Learning Outcomes must provide technical assistance and identify, synthesize, and disseminate research-based practices and emerging promising practices that will lead to the increased capacity of SEAs to implement comprehensive and aligned early learning systems in order to increase the number of children from birth through third grade who are prepared to succeed in school.

Priority 6: Center on College and Career Readiness and Success.

The Center on College and Career Readiness and Success must provide technical assistance and identify, synthesize, and disseminate research-based practices and emerging promising practices that will lead to the increased capacity of SEAs to support districts and schools in implementing comprehensive strategies that promote college- and career-readiness for students in kindergarten through grade 12 (K-12) and ensure the successful transition of all students from high school graduation to postsecondary education and the workforce.

Priority 7: Center on Building State Capacity and Productivity.

The Center on Building State Capacity and Productivity must provide technical assistance and identify, synthesize, and disseminate research-based practices and emerging promising practices that will increase the capacity of SEAs to implement their key initiatives statewide and support district- and school-level implementation of effective practices to improve student outcomes.

Priority 8: Center on Innovations in Learning.

The Center on Innovations in Learning must provide technical assistance and identify, synthesize, and disseminate research-based practices and emerging promising practices that will lead to the increased capacity of SEAs to identify and scale up innovative approaches that significantly improve, or have the potential to significantly improve, student outcomes.

Invitational Priority: For FY 2012, this priority is an invitational priority. Under 34 CFR 75.105(c)(1) we do not give an application that meets this invitational priority a competitive or absolute preference over other applications.

This priority is:

Cost-Sharing or Matching.

The Secretary is particularly interested in applications that provide evidence in the application of a commitment from a partner or partners from one or more entities or organizations in the public or private sector, which may include philanthropic organizations, of non-Federal funds or an in-kind match, or both, that totals at least 15 percent of the total grant budget. The Secretary's interest is in applications in which evidence of the commitment of the financial or in-kind matching contribution includes the full amount and source of the matching contribution, and the date that the funds or in-kind contributions will be received. Examples of such evidence include funding agreements with a public or private-sector entity, or other signed documents such as commitment letters. The evidence should not include contingencies that raise concerns about the funding commitment other than that the applicant must be awarded a Comprehensive Centers grant award.

Program Authority: 20 U.S.C. 9602 through 9606.

Applicable Regulations: (a) The Education Department General Administration Regulations (EDGAR) in 34 CFR parts 74, 75, 77, 79, 80, 81, 82, 84, 86, 97, 98, and 99. (b) The Education Department suspension and debarment regulations in 2 CFR part 3485. (c) The notice of final priorities, requirements, and selection criteria published elsewhere in this issue of the Federal Register.

Note: The regulations in 34 CFR part 79 apply to all applicants except federally recognized Indian tribes.

Note: The regulations in 34 CFR part 86 apply to institutions of higher education only.

II. Award Information

Type of Award: Cooperative agreements.

Estimated Available Funds: Eighteen of the 22 Centers proposed for funding under this competition will be supported entirely with funds from the Comprehensive Centers program, authorized under the ETAA. One Content Center, the Center on Great Teachers and Leaders, will be supported with funds appropriated for the Comprehensive Centers program; the Special Education Technical Assistance and Dissemination (TA&D) program, which is authorized under section 663 of the Individuals with Disabilities Education Act, as amended; and the Career and Technical Education (CTE) National Activities program, which is authorized under section 114 of the Carl D. Perkins Career and Technical Education Act of 2006 (Perkins Act).

Three Regional Centers—South-Central, Northwest, and West—will be supported with funds appropriated for the Comprehensive Centers program and funds appropriated for the Indian Education National Activities program, which is authorized under section 7131 of the Elementary and Secondary Education Act of 1965, as amended (ESEA).

The estimated total amount of funds available from the Comprehensive Centers program for FY 2012 is $50 million. Of that amount, an estimated $40 million will be used to fund Regional Centers and an estimated $10 million will be used to fund the Content Centers. FY 2012 funds will support awards for the first budget period of the project, which is the first 12 months of the project period. Funding for the subsequent budget periods for years two through five (FY 2013 through FY 2017) is contingent on appropriation levels.

The estimated total amount of funds available from the Special Education TA&D program for FY 2012 is $750,000 to provide partial support for the Center on Great Teachers and Leaders for the first budget period of the project. Depending on appropriation levels, up to $750,000 from the TA&D program may be awarded to this center in each subsequent budget period. Because a proportion of the funding for the Center on Great Teachers and Leaders comes from the Special Education TA&D program, an applicant's plan of activities must provide for an amount of technical assistance benefitting students with disabilities that is consistent with this proportion of funding. Applicants must propose a proportionate amount of technical assistance services to SEAs and Regional Centers that will lead to the increased capacity of SEAs to support their districts and schools in improving outcomes of students with disabilities (e.g., developing the knowledge and skills of special education teachers; strategies to ensure the equitable distribution of effective special education teachers; strategies to recruit, reward, retain, and support effective special education teachers; and developing and implementing human capital management systems, including the evaluation of special education teachers).

The estimated total amount of funds available from the CTE program for FY 2012 is $300,000 to provide partial support for the Center on Great Teachers and Leaders for the first budget period of the project. Depending on appropriation levels, up to $300,000 from the CTE program may be awarded to this center in each subsequent budget period. Because a proportion of funding for the Center on Great Teachers and Leaders comes from the CTE program, an applicant's plan of activities must provide for an amount of technical assistance benefitting career and technical education students that is consistent with this proportion of funding. Applicants must propose a proportionate amount of technical assistance services to SEAs and Regional Centers that will lead to the increased capacity of SEAs to support their districts and schools in improving student outcomes by supporting effective instruction and leadership in career and technical education, particularly in developing the knowledge and skills of career and technical education teachers to help all students meet college-and career-ready standards.

The Department anticipates that the Comprehensive Centers program will provide an estimated 60 percent, the TA&D program will provide an estimated 30 percent, and the CTE program will provide an estimated 10 percent of the annual funding for the Center on Great Teachers and Leaders.

The estimated total amount of funds available from the Indian Education National Activities program for FY 2012 is $993,000 to provide partial support ($331,000) to each of three Regional Centers—Northwest, SouthCentral, and West—that serve States with the largest populations of American Indian/Alaska Native (AI/AN) students. Depending on appropriation levels, up to $331,000 may be made available to each of these Regional Centers from the Indian Education National Activities program for awards in each subsequent budget period.

Because a proportion of the funding for these centers comes from the Indian Education National Activities program, an applicant's plan of activities must provide for an amount of technical assistance benefitting AI/AN students that is consistent with this proportion of funding. Applicants for each of these Regional Centers must propose a proportionate amount of technical assistance services to SEAs and Regional Centers that will lead to the increased capacity of SEAs to lead and support their districts and schools in improving outcomes for AI/AN students.

The Department anticipates that the Comprehensive Centers program will provide an estimated 85 percent of the annual funding for the Northwest, South Central and West Regional Centers, and that the Indian Education National Activities program will provide an estimated 15 percent.

Estimated Range of Awards: For Regional Centers:

$825,000 to $4,895,053. Estimated awards for each Regional Center:

Appalachia | $2,418,862
California | 4,895,053
Central | 1,586,384
Florida and Islands | 3,091,817
Great Lakes | 3,541,077
Mid-Atlantic | 2,979,430
Midwest | 3,064,970
North Central | 825,000
Northeast | 3,612,181
Northwest | 1,888,091
Pacific | 825,000
South Central | 2,189,099
Southeast | 4,371,361
Texas | 3,875,556
West | 1,931,332

For Content Centers: $1,428,571 to $2,478,571. Estimated awards for each Content Center:

Center on Standards and Assessments Implementation | $1,428,571
Center on Great Teachers and Leaders | 2,478,571
Center on School Turnaround | 1,428,571
Center on Enhancing Early Learning Outcomes | 1,428,571
Center on College and Career Readiness and Success | 1,428,571
Center on Building State Capacity and Productivity | 1,428,571
Center on Innovations in Learning. | 1,428,571

Estimated Number of Awards: The Secretary intends to make 22 awards under this competition. Fifteen awards will support Regional Centers to serve States within defined geographic boundaries that align with the REL regions. One or two Regional Centers will be located in each of the 10 REL regions. The States and territories to be served by each Regional Center are as follows:

Appalachia: Kentucky, Tennessee, Virginia, and West Virginia.

California: California.

Central: Colorado, Kansas, and Missouri.

Florida and Islands: Florida, Puerto Rico, and the Virgin Islands.

Great Lakes: Indiana, Michigan, and Ohio.

Mid-Atlantic: Delaware, District of Columbia, Maryland, New Jersey, and Pennsylvania.

Midwest: Illinois, Iowa, Minnesota, and Wisconsin.

North Central: Nebraska, North Dakota, South Dakota, and Wyoming.

Northeast: Connecticut, Maine, Massachusetts, New Hampshire, New York, Rhode Island, and Vermont.

Northwest: Alaska, Idaho, Montana, Oregon, and Washington.

Pacific: American Samoa, Commonwealth of the Northern Mariana Islands, Guam, Hawaii, and the Republic of Palau.

South Central: Arkansas, Louisiana, New Mexico, and Oklahoma.

Southeast: Alabama, Georgia, North Carolina, Mississippi, and South Carolina.

Texas: Texas.

West: Arizona, Nevada, and Utah.

Seven awards will support Content Centers, each having a specific content expertise and focus. These seven Content Centers are: The Center on Standards and Assessments Implementation, the Center on Great Teachers and Leaders, the Center on School Turnaround, the Center on Enhancing Early Learning Outcomes, the Center on College and Career Readiness and Success, the Center on Building State Capacity and Productivity, and the Center on Innovations in Learning. The functions and activities for each of the seven Content Centers are described in the notice of final priorities, requirements, and selection criteria published elsewhere in this issue of the Federal Register.

Note: The Department is not bound by any estimates in this notice.

Project Period: Up to 60 months.

III. Eligibility Information

1. Eligible Applicants: Research organizations, institutions, agencies, institutions of higher education, or partnerships among such entities, or individuals, with the demonstrated ability or capacity to carry out the activities described in this notice.

2. Cost Sharing or Matching: This program does not require cost sharing or matching. However, as indicated in the invitational priority in this notice, the Secretary is particularly interested in applications that provide evidence of a commitment from a partner or partners from one or more entities or organizations in the public or private sector, which may include philanthropic organizations, of funds or an in-kind match, or both, that totals at least 15 percent of the total grant budget.

IV. Application and Submission Information

1. Address to Request Application Package: You can obtain an application package via the Internet or from the Education Publications Center (ED Pubs). To obtain a copy via the Internet, use the following address: www.Grants.gov. To obtain a copy from ED Pubs, write, fax, or call the following: ED Pubs, U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application from ED Pubs, be sure to identify this program or competition as follows: CFDA number 84.283B.

Individuals with disabilities can obtain a copy of the application package in an accessible format (e.g., braille, large print, audiotape, or compact disc) by contacting the person or team listed under Accessible Format in section VIII of this notice.

2. Content and Form of Application Submission: Requirements concerning the content of an application, together with the forms you must submit, are in the application package for this program. Requirements governing each of the priorities in this notice are in the notice of final priorities, requirements, and selection criteria for this program, published elsewhere in this issue of the Federal Register and in the application package for this notice.

Notice of Intent to Apply: We will be able to develop a more efficient process for reviewing grant applications if we have an understanding of the number of applications we are likely to receive. Therefore, we strongly encourage each potential applicant to send an email notice of its intent to apply for funding to the following address: OESE.compcenters@ed.gov. The notice of intent to apply is optional and should not include information about the potential applicant's proposal. Applicants that do not provide us with the notice of intent to apply may still submit an application.

Pre-application briefings: We will conduct briefings on this competition via conference calls to clarify the purposes of the program and the selection criteria and application process. Please email Fran Walter at fran.walter@ed.gov to register for a call date and time and to obtain the conference call number.

Page Limit: The application narrative is where you, the applicant, address the selection criteria that reviewers use to evaluate your application. We strongly suggest that you limit the narrative portion of your application to 150 pages and suggest that you use the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The page limit does not apply to the cover sheet; the budget section, including the narrative budget justification; the assurances and certifications; or the one-page abstract, the resumes, the bibliography, or the letters of support. However, the suggested page limit does apply to all of the application narrative section.

3. Submission Dates and Times:

Applications Available: June 6, 2012.

Deadline for Notice of Intent to Apply: June 26, 2012.

Dates of Pre-Application Briefings:

Applicants for Regional Centers: June 19, 2012 and June 22, 2012.

Applicants for Content Centers: June 20, 2012 and June 22, 2012.

Deadline for Transmittal of Applications: August 6, 2012.

Applications for grants under this program must be submitted electronically using the Grants.gov Apply site (Grants.gov). For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: October 4, 2012.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section of this notice.

6. Data Universal Numbering System Number, Taxpayer Identification Number, and Central Contractor Registry:To do business with the Department of Education, you must—

a. Have a Data Universal Numbering System (DUNS) number and a Taxpayer Identification Number (TIN);

b. Register both your DUNS number and TIN with the Central Contractor Registry (CCR), the Government's primary registrant database;

c. Provide your DUNS number and TIN on your application; and

d. Maintain an active CCR registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

In addition, if you are submitting your application via Grants.gov, you must (1) be designated by your organization as an Authorized Organization Representative (AOR); and (2) register yourself with Grants.gov as an AOR. Details on these steps are outlined at the following Grants.gov Web page: www.grants.gov/applicants/get_registered.jsp.

7. Other Submission Requirements.

Applications for grants under this program must be submitted electronically unless you qualify for an exception to this requirement in accordance with the instructions in this section.

a. Electronic Submission of Applications.

Applications for grants under the Comprehensive Centers program, CFDA number 84.283B, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the Comprehensive Centers program at www.Grants.gov. You must search for the downloadable application package for this program by the CFDA number. Do not include the CFDA number's alpha suffix in your search (e.g., search for 84.283, not 84.383B).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this program to ensure that you submit your application in a timely manner to the Grants.gov system. You can also find the Education Submission Procedures pertaining to Grants.gov under News and Events on the Department's G5 system home page at http://www.G5.gov.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material. Additional, detailed information on how to attach files is in the application instructions.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Fran Walter, U.S. Department of Education, 400 Maryland Avenue SW., Room 3W115, Washington, DC 20202. FAX: (202)205-5870.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.283B) LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.283B) 550 12th Street, SW, Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The section criteria for this competition are from the notice of final priorities, requirements, and selection criteria published elsewhere in this issue of the Federal Register. The selection criteria for this program are as follows:

A. Technical Assistance Plan

1. Overall quality of the technical assistance plan (15 points). In determining the overall quality of the technical assistance plan for the proposed center and the likelihood of the center contributing to improved State outcomes, the Secretary considers—

a. The extent to which the proposed technical assistance plan presents an exceptional approach that will likely result in building SEA capacity to implement State-level initiatives and support district- and school-level initiatives that improve educational outcomes for all students, close achievement gaps, and improve the quality of instruction;

b. The potential contribution of the center to increasing the knowledge and understanding of effective strategies in the center's area of expertise; and

c. The extent to which the proposed technical assistance plan presents an approach that will result in the sharing of high-quality, relevant, useful information, materials, and other applicable resources across SEAs, districts, and schools, within and outside of a region.

d. In the case of an applicant for a Regional Center, the extent to which the proposed technical assistance plan presents an approach that is likely to secure an SEA's commitment to devote the time, leadership, and personnel needed to implement the work plan and achieve the specific goals, which may include a memorandum of understanding or similar agreement that contains timelines and benchmarks to ensure that the work stays on track to achieve these goals.

2. Quality of the Project Design (25 points). In determining the quality of the project design of the proposed center for which the applicant is applying, the Secretary considers—

a. The extent to which the applicant's technical assistance plan proposes an exceptional approach to meeting the requirements for all centers, which includes—

i. Providing high-quality technical assistance that is based on up-to-date knowledge and understanding of research-based practices and emerging promising practices; is highly relevant and useful to SEAs, LEAs, and school policymakers and practitioners; and is delivered in a timely, cost-efficient manner;

ii. Focusing technical assistance on helping SEAs build capacity to implement State-level initiatives and support district- and school-level initiatives that improve educational outcomes for all students, close achievement gaps, and improve the quality of instruction; and

iii. Coordinating and collaborating with national experts and technical assistance providers to ensure that the technical assistance is informed by leading-edge research and innovative approaches and avoids duplicating efforts;

b. In the case of an applicant for a Regional Center, the extent to which the applicant's technical assistance plan proposes an exceptional approach to meeting the requirements for all Regional Centers; and

c. In the case of an applicant for a Content Center, the extent to which the applicant's technical assistance plan proposes an exceptional approach to meeting the requirements for all Content Centers, as well as the requirements for the specific Content Center for which the applicant is applying.

3. Knowledge of State Technical Assistance Needs (10 points). In determining the applicant's ability to meet State technical assistance needs, the Secretary considers the extent to which the proposed technical assistance plan provides strategies that address the technical assistance needs of States in key areas, as evidenced by in-depth knowledge and understanding of—

a. In the case of an applicant for a Regional Center, the specific educational goals and priorities of the States to be served by the applicant, including emerging priorities based on State-led reform efforts;

b. In the case of an applicant for a Regional Center, the applicable State and regional demographics, policy contexts, and other factors and their relevance to improving student outcomes, closing achievement gaps, and improving instruction; and

c. In the case of an applicant for a Content Center, State technical assistance needs, and research-based practices and emerging promising practices related to the Content Center for which the applicant is applying.

B. Subject-Matter and Technical Expertise

Quality of Key Project Personnel (25 points). In determining the subject-matter and technical expertise of key project personnel, the Secretary considers the extent to which the applicant encourages applications for employment from persons who are members of groups that have traditionally been underrepresented based on race, color, national origin, gender, age, or disability. In addition, the Secretary considers—

1. The knowledge, understanding, and experience of key project personnel as outlined under the subject-matter and technical expertise requirements for all centers;

2. In the case of an applicant for a Regional Center, in addition to the knowledge, understanding, and experience outlined under subject-matter and technical expertise requirements for all centers, the subject-matter and technical expertise of key personnel outlined under the requirements for Regional Centers;

3. In the case of an applicant for a Content Center, in addition to the knowledge, understanding, and experience outlined under subject-matter and technical expertise requirements for all centers, the subject-matter and technical expertise of key personnel outlined under the requirements for the specific Content Center for which the applicant is applying;

4. The extent to which the applicant has demonstrated experience providing high-quality technical assistance to SEAs or multiple districts;

5. The extent to which the applicant has demonstrated the ability to develop ongoing partnerships with leading experts and organizations nationwide that inform high-quality technical assistance and subject-matter expertise; and

6. The extent to which the applicant has prior relevant experience operating a project of the scope required for the purposes of the center being proposed.

C. Management and Evaluation Plans

1. Quality of the Management Plan (15 points). In determining the quality of the management plan for the proposed center, the Secretary considers—

a. The adequacy of the management plan to achieve the objectives of the project on time and within budget, including clearly defined responsibilities, timelines, and milestones for accomplishing project tasks;

b. The extent to which the time commitments of the project director and other key project personnel, including any partners or consultants, are appropriate and adequate to meet the objectives of the proposed project;

c. The extent to which resources are allocated within a region for Regional Centers, and across regions for Content Centers, in a manner that reflects the need for technical assistance; and

d. The adequacy of the resources for the proposed project, including whether the applicant proposes facilities and equipment to successfully carry out the purposes and activities of the proposed center.

2. Quality of the Project Evaluation Plan (10 points). In determining the quality of the evaluation plan, the Secretary considers—

a. The extent to which the applicant demonstrates a strong capacity to provide reliable formative and summative data on performance measures;

b. The extent to which the performance goals and objectives for the project are clearly specified and measurable in terms of the project activities to be accomplished and their stated outcomes;

c. The extent to which the methods for monitoring performance and evaluating the effectiveness of project strategies in terms of outcomes for SEAs, districts, and schools are thorough, feasible, and appropriate to the objectives and outcomes of the proposed project;

d. The extent to which the methods of evaluation will provide continuous performance feedback and encourage the continuous assessment of progress toward achieving intended outcomes; and

e. The extent to which the applicant has a high-quality plan to use both formative and summative data from evaluations to inform and improve service delivery over the course of the grant.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

Additional factors we consider in selecting an application for an award are as follows:

Geographic distribution: The ETAA requires that the Secretary ensure that not less than one Comprehensive Center is established in each of the 10 geographic regions served by the RELs. Elsewhere in this notice we identify the 15 regions in which we intend to establish Regional Centers. One to two Regional Centers will be established in each of the 10 REL regions. Applications for Regional Centers will be scored and ranked against other applications from the same region.

3. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: To evaluate the overall success of the Comprehensive Center program, the Department will use three performance measures to assess the quality, relevance, and usefulness of center activities funded under this competition. These measures, adapted from a set of common measures developed to help assess performance across the Department's technical assistance programs, are: (1) The percentage of all Comprehensive Centers' products and services that are deemed to be of high quality by qualified experts or individuals with appropriate expertise to review the substantive content of the products and services; (2) the percentage of all Comprehensive Centers' products and services that are deemed to be of high relevance to educational policy or practice by target audiences; and (3) the percentage of all Comprehensive Centers' products and services that are deemed to be of high usefulness to educational policy or practice by target audiences.

All grantees will be expected to submit, as part of their performance reports, quantitative data documenting their progress with regard to these performance measures.

5. Advisory Board: Under section 203(g) of the ETAA, each Comprehensive Center must establish an advisory board that supports the priorities of the center. In the first year of the grant, each center will be expected to submit information demonstrating that it has met the statutory requirement to establish the advisory board.

6. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Fran Walter, U.S. Department of Education, 400 Maryland Avenue SW., room 3W115, Washington, DC 20202-0001 or by email: fran.walter@ed.gov.

If you use a TDD or a TTY, call the FRS, toll free, at 1-800-877-8339.

VIII. Other Information

Accessible Format: Individuals with disabilities can obtain this document and a copy of the application package in an accessible format (e.g., braille, large print, audiotape, or computer diskette) on request to the program contact person listed under FOR FURTHER INFORMATION CONTACT in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: June 1, 2012.
Deborah S. Delisle,
Assistant Secretary for Elementary and Secondary Education.

[FR Doc. 2012-13735 Filed 6-5-12; 8:45 am]

BILLING CODE 4000-01-P